DEPARTMENT OF THE INTERIOR

Bureau of Land Management

[CACA 47740, LLCAD07000, L51030000.FX0000, LVRAB109AA01]

Notice of Availability of the Draft Environmental Impact Statement/Staff Assessment for the Stirling Energy Systems Solar Two Project and Possible California Desert Conservation Area Plan Amendment

AGENCY: Bureau of Land Management, Interior.

ACTION: Notice of Availability.

SUMMARY: In accordance with the National Environmental Policy Act (NEPA) of 1969, as amended, and the Federal Land Policy and Management Act (FLPMA) of 1976, as amended, the Bureau of Land Management (BLM) and the California Energy Commission (CEC) have prepared a Draft Environmental Impact Statement (EIS), Draft California Desert Conservation Area (CDCA) Plan Amendment, and Staff Assessment (SA) as a joint environmental analysis document for the Stirling Energy Systems (SES) Solar Two Project and by this notice are announcing the opening of the comment period.

DATES: To ensure that comments will be considered, the BLM must receive written comments on the Draft EIS/SA within 90 days following the date the Environmental Protection Agency publishes its Notice of Availability in the Federal Register. The BLM will announce future meetings or hearings and any other public involvement activities at least 15 days in advance through public notices, media releases, and/or mailings.

ADDRESSES: You may submit comments related to the SES Solar Two Project by any of the following methods:

• Web site: http://www.energy.ca.gov/sitingcases/solartwo/index.html.

• E-mail: Cmeyer@energy.state.ca.us.

• Fax: (818) 597-8001.

• Mail or other delivery service: Christopher Meyer, Project Manager, Siting, Transmission and Environmental Protection Division, California Energy Commission, 1516 Ninth Street, MS-15, Sacramento, California, 95814.

Copies of the SES Solar Two Draft EIS/SA are available from the CEC at the above address and in the BLM El Centro Field Office, 1661 S. 4th Street, El Centro, California, 92243.

FOR FURTHER INFORMATION CONTACT: For further information contact Jim Stobaugh, BLM Project Manager, by telephone at (775) 861-6478; through mail at Bureau of Land Management, P.O. Box 12000, Reno, Nevada 89520; or by e-mail at Jim_Stobaugh@blm.gov.

SUPPLEMENTARY INFORMATION: SES has submitted an application to the BLM for development of the proposed SES Solar Two Project, a concentrated solar electrical generating facility capable of generating 750 megawatts of renewable power. The entire project encompasses approximately 6,144 acres of BLM-managed lands. The project site is in Imperial County, California, approximately four miles east of Ocotillo and 14 miles west of El Centro. Generally, the site is bounded on the north by the San Diego Metropolitan Transit System/San Diego & Arizona Eastern Railway and on the south by Interstate 8. The eastern boundary is approximately 1.5 miles west of Dunaway Road and the western boundary is the westerly section line in Section 22 in Township 16 South, Range 12 East. An additional 110-acre construction area is proposed east of Dunaway Road.

SES proposes to use SunCatcher technology on the site. A SunCatcher is a 25-kilowatt solar dish designed to automatically track the sun and collect and focus solar energy onto a power conversion unit (PCU), which generates electricity. The system consists of a 38-foot high by 40-foot wide solar concentrator in a dish structure that supports an array of curved glass mirror facets. These mirrors collect and concentrate solar energy onto the solar receiver of the PCU.

The project also includes an electrical transmission line, water supply pipeline, and an access road. A new 230-kilovolt (kV) substation would be constructed in approximately the center of the project site near a main services complex that is also part of the proposal. The substation would be connected to the existing San Diego Gas and Electric Imperial Valley Substation by about a 10.3-mile long, double-circuit 230 kV transmission line. Approximately 7.6 miles of this new line would be outside the project area but is included in the analysis. The transmission line would require the use of approximately 92 acres.

The BLM's purpose and need for the Solar Two project is to respond to SES' application under Title V of FLPMA (43 U.S.C. 1761) for a right-of-way (ROW) grant to construct, operate, and decommission a solar thermal facility on public lands in compliance with FLPMA, BLM ROW regulations, and other applicable Federal laws. The BLM will decide whether to approve, approve with modification, or deny a ROW grant to SES for the proposed Solar Two project. The BLM will also consider amending the CDCA Plan in this analysis. The CDCA Plan (1980, as amended), while recognizing the potential compatibility of solar generation facilities on public lands, requires that all sites associated with power generation or transmission not identified in that plan be considered through the plan amendment process. If the BLM decides to grant a ROW, the BLM would also amend the CDCA Plan as required.

In the draft EIS analysis, the BLM's proposed action is to authorize the SES Solar Two project and approve a CDCA Plan amendment in response to the application received from SES. In addition to the proposed action, the BLM is analyzing the following action alternatives:

• Authorize the proposed action;

• Authorize a smaller 300 MW alternative and amend the CDCA Plan;

• Authorize the project as described in the Drainage Avoidance #1 alternative that may reduce impacts to primary water drainages of the U.S. and amend the CDCA Plan; and

• Authorize the project as described in the more restrictive Drainage Avoidance #2 alternative that may substantially reduce impacts in eastern and western high flow water drainages of the U.S. and amend the CDCA Plan.

As required under the California Environmental Quality Act (CEQA) and NEPA, the EIS analyzes three no action alternatives:

• Deny the application and not amend the CDCA Plan;

• Deny the project but amend the CDCA Plan to allow other solar energy power generation projects on the project site; and

• Deny the project and amend the CDCA Plan to prohibit solar energy power generation projects on the project site.

The BLM will take into consideration the provisions of the Energy Policy Act of 2005 and Secretarial Orders 3283 Enhancing Renewable Energy Development on the Public Lands and 3285 Renewable Energy Development by the Department of the Interior in responding to the SES application.

The BLM has entered into a Memorandum of Understanding (MOU) with the CEC to conduct a joint environmental review of solar thermal projects that are proposed on Federal land managed by the BLM with the CEC as the lead agency preparing the environmental documents. The BLM and CEC have agreed through the MOU to conduct joint environmental review of the project in a single combined NEPA/CEQA process and document. In addition, the BLM and the U.S. Army Corps of Engineers (Corps) entered into an MOU to formalize the Corps as a Federal cooperating agency in developing the EIS. The BLM and CEC, in coordination with the Corps, have prepared the Draft EIS/SA evaluating the potential impacts of the proposed Solar Two Project on air quality, biological resources, cultural resources, water resources, geological resources and hazards, land use, noise, paleontological resources, public health, socioeconomics, soils, traffic and transportation, visual resources, and other resources. The Corps requirements under the Clean Water Act (CWA), Section 404(b)(1) Guidelines are to identify and authorize only the Least Environmentally Damaging Practicable Alternative which maximizes avoidance and minimization of impacts to aquatic resources of the U.S. The Corps and the applicant are working with the BLM and CEC to identify the project proposal that would reasonably comply with the Corps' requirements under the CWA and 404(b)(1) Guidelines. The applicant has applied to the Department of Energy (DOE) for a loan guarantee under Title XVII of the Energy Policy Act of 2005, as amended by Section 406 of the American Recovery and Reinvestment Act of 2009, Public Law 111-5. Should the DOE decide to enter into negotiation of a possible loan guarantee with the applicant, the DOE would become a cooperating agency in developing the final EIS. A Notice of Intent to Prepare an EIS/SA and Proposed Land Use Plan Amendment for the Proposed SES Solar Two Project in Imperial County, California was published October 17, 2008 (see 73 FR 61902). The BLM held two public scoping meetings in El Centro, California, on November 24 and December 18, 2008. The formal scoping period ended January 2, 2009.

Please note that public comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6; 40 CFR 1506.10; and 43 CFR 1610.2.

Vickie Weed,
Field Manager, El Centro Field Office.

[FR Doc. 2010-3443 Filed 2-19-10; 8:45 am]

BILLING CODE 4310-40-P